DEPARTMENT OF DEFENSE

Office of the Secretary

[Docket ID DoD-2021-OS-0028]

Privacy Act of 1974; System of Records

AGENCY: Defense Media Activity (DMA), Department of Defense (DoD).

ACTION: Notice of a modified system of records.

SUMMARY: In accordance with the Privacy Act of 1974, the DoD is modifying and reissuing a current system of records titled, “DoD Media Pool and Pentagon Correspondent Files,” DPAD 12.0. This system of records was originally established by the Office of the Assistant Secretary of Defense (Public Affairs) to collect and maintain records on news media representatives nominated by their respective bureaus to be members of the DoD Media Pool and Pentagon correspondents who may conduct interviews with Pentagon executive-level personnel. This system of records notice (SORN) is being updated to incorporate the DoD standard routine uses and support additional information sharing of these records outside of the DoD. The routine uses are proposed to be updated to allow for disclosure to the Department of State to issue passports/visas to these individuals, and to foreign embassies to obtain a foreign entry visa for these individuals. The DoD is also modifying various other sections within the SORN to improve clarity or update information that has changed.

DATES: This system of records modification is effective upon publication; however, comments on the Routine Uses will be accepted on or before June 2, 2021. The Routine Uses are effective at the close of the comment period.

ADDRESSES: You may submit comments, identified by docket number and title, by any of the following methods:

* Federal Rulemaking Portal: https://www.regulations.gov.

Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Tanya Rose, Director, Information Management, Department of Defense, 1155 Defense Pentagon, Room 2E989, Washington, DC 20301.

SUPPLEMENTARY INFORMATION:

I. Background

The DoD Media Pool and Pentagon Correspondent Files system of records is used to issue Pentagon building and media press passes, arrange foreign clearances and visas, and to determine an individual's suitability/preparedness for deployment with the media pool. Subject to public comment, the DoD proposes to update this SORN to add standard DoD routine uses (routine uses A through I) and to allow for additional disclosures outside the DoD related to the purpose of this system of records. Specifically, the DoD proposes to add a new routine use (routine use J) to disclose information from this system of records to the Department of State to support issuance of media passports/visas. The DoD proposes to add another new routine use (routine use K) to support sharing of information with foreign embassies to allow members of the media to obtain foreign entry visas. In addition to updating the routine use section, the other modifications are (1) to the Authority for Maintenance of the System section to update citation(s) and add additional authorities; (2) to the Categories of Individuals Covered by the System section to clarify the individuals covered and Categories of Records to clarify how the records relate to the Category of Individuals; (3) to the Administrative, Technical, and Physical Safeguards to update the individual safeguards protecting the personal information; (4) to the Retention and Disposal section to reflect the approved disposition; (5) to the Record Access Procedures section to reflect the need for individuals to identify the appropriate DoD office or component to which their request should be directed; (6) to the Contesting Records Procedures section to update the appropriate citation for contesting records; and (7) to the System Manager and System Location sections to update the addresses and office names. Furthermore, this notice includes non-substantive changes to simplify the formatting and text of the previously published notice.

The DoD notices for systems of records subject to the Privacy Act of 1974, as amended, have been published in the Federal Register and are available from the address in FOR FURTHER INFORMATION CONTACT or at the Defense Privacy, Civil Liberties, and Transparency Division website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, the DoD has provided a report of this system of records to the OMB and to Congress.

Dated: April 27, 2021.
Aaron T. Siegel,
Alternate OSD Federal Register, Liaison Officer, Department of Defense.

SYSTEM NAME AND NUMBER:

DoD Media Pool and Pentagon Correspondent Files, DPAD 12.0.

SECURITY CLASSIFICATION:

Unclassified.

SYSTEM LOCATION:

Office of the Assistant Secretary of Defense (Public Affairs), Directorate for Strategy, Plans and Assessment, 1400 Defense Pentagon, Washington, DC 20301-1400.

SYSTEM MANAGER(S):

The system managers are as follows: For DoD Media Pool Files: Office of the Assistant Secretary of Defense (Public Affairs), Directorate for Strategy, Plans and Assessment, Room 2E977, 1400 Defense Pentagon, Washington, DC 20301-1400.

For Pentagon Correspondent Files: Office of the Assistant Secretary of Defense (Public Affairs), Deputy Director, Directorate for Public Affairs Operations, Room 2D961, 1400 Defense Pentagon, Washington, DC 20301-1400.

AUTHORITY FOR MAINTENANCE OF THE SYSTEM:

10 U.S.C. 113, Secretary of Defense; DoD Directive 5122.05, Assistant Secretary of Defense for Public Affairs (ASD(PA)); and Executive Order 9397 (SSN), as amended.

PURPOSE(S) OF THE SYSTEM:

Media Pool Files are used to issue Pentagon building passes, media pool press passes, and orders; to collect and maintain records on news media representatives nominated by their respective bureaus to be members of the DoD Media Pool. To arrange foreign country clearances and visas, and to determine individual's suitability/preparedness for deployment with the media pool. This information is used in the performance of official duties related to determining eligibility of selective press members to travel with DoD executive level personnel. Pentagon Correspondent Files are used by Pentagon executive level personnel to provide a brief summary of the news media representative's professional experience and background.

CATEGORIES OF INDIVIDUALS COVERED BY THE SYSTEM:

News media representatives nominated by their respective bureaus to be members of the DoD Media Pool or travel with the Secretary. News media representatives who may conduct interviews with Pentagon executive level personnel.

CATEGORIES OF RECORDS IN THE SYSTEM:

A. DoD Media Pool Files consist of press accreditation and other questionnaires and forms soliciting the news media representative's name, age, nationality, Social Security Number (SSN), office and home addresses and phone numbers, passport information, medical information, and person to be notified in an emergency effecting individual

B. No fault (“hold harmless”) legal contracts between DoD and media organizations as well as no-fault legal contracts between DoD and individual media representatives.

C. Ground-rule agreements between DoD and individuals covering personal conduct before and during event. Certificates of background security clearance.

D. Pentagon Correspondent Files consist of photographs and biographies for news media representatives.

RECORD SOURCE CATEGORIES:

Individuals; completed accreditation and other questionnaires and forms; individuals' employers or bureaus.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To such recipients and under such circumstances and procedures as are mandated by Federal statute or treaty.

J. To appropriate foreign government authorities for administrative purposes to facilitate an individual's official travel to that country.

K. To the Department of State for news media representatives on official business with the DoD, who, in their official capacity, are applying for an official passport or to update their official passport.

POLICIES AND PRACTICES FOR STORAGE OF RECORDS:

Records may be stored electronically or on paper in secure files facilities in a locked drawer behind a locked door.

POLICIES AND PRACTICES FOR RETRIEVAL OF RECORDS:

News media representative name, SSN, bureau, or organization.

POLICIES AND PRACTICES FOR RETENTION AND DISPOSAL OF RECORDS:

Temporary. Cut off after death of individual press member. Destroy individual accreditation and clearances 10 years after cutoff.

ADMINISTRATIVE, TECHNICAL, AND PHYSICAL SAFEGUARDS:

The DoD safeguards records in this system of records according to applicable rules, policies, and procedures, including all applicable DoD automated systems security and access policies. DoD policies require the use of controls to minimize the risk of compromise of personally identifiable information (PII) in paper and electronic form and to enforce access by those with a need to know and with appropriate clearances. Additionally, the DoD established security audit and accountability policies and procedures which support the safeguarding of PII and detection of potential PII incidents. The DoD routinely employs safeguards such as the following to information systems and paper recordkeeping systems: Multifactor log-in authentication including CAC authentication and password; SIPR token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

Individuals seeking access to their records should address written inquiries to the OSD/JS FOIA Requester Service Center, Office of Freedom of Information, 1155 Defense Pentagon, Washington, DC 20301-1155. Signed written requests should contain the name and number of this system of records notice along with the full name, SSN, and bureau or organization where employed. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310, or may be obtained from the system manager.

NOTIFICATION PROCEDURES:

Individuals seeking to determine whether information about themselves is contained in this system should address written inquiries to the appropriate system mangers(s). Signed written inquiries should contain the name and number of this system of records notice along with the full name, SSN, and bureau or organization where employed. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

February 22, 1993, 58 FR 10227; July 23, 2003, 68 FR 43500

[FR Doc. 2021-09211 Filed 4-30-21; 8:45 am]

BILLING CODE 5001-06-P